DEPARTMENT OF THE INTERIOR

National Park Service

[NPS-NCR-NACA-0411-7317; 2031-A155-422]

Intent To Prepare an Environmental Impact Statement for a Deer Management Plan, Antietam National Battlefield and Monocacy National Battlefield, MD, and Manassas National Battlefield Park, VA

AGENCY: National Park Service, Interior.

ACTION: Notice.

SUMMARY: Pursuant to the National Environmental Policy Act of 1969, 42 U.S.C. 4332(2)(C), the National Park Service (NPS) is preparing an Environmental Impact Statement for a Deer Management Plan (EIS and Plan) covering Antietam National Battlefield and Monocacy National Battlefield, Maryland, and Manassas National Battlefield Park, Virginia. The purpose of this EIS and Plan is to develop a deer management strategy that supports preservation of the cultural and natural landscapes through the protection and restoration of native vegetation and other natural and cultural resources, and that provides for management of Chronic Wasting Disease at the parks.

DATES: The NPS will accept comments from the public through September 2, 2011.

The NPS intends to hold public scoping meetings at Antietam National Battlefield, Monocacy National Battlefield and Manassas National Battlefield Park during the scoping period. Details regarding the exact times and locations of these meetings will be announced through local media at least 15 days in advance of the meetings. Information about public meetings will also be provided on the three parks' planning Web site: http://parkplanning.nps.gov/battlefielddeerplan (click on the link to the Deer Management Plan).

ADDRESSES: Information will be available for public review and comment online at http://parkplanning.nps.gov/battlefielddeerplan and at all three park headquarters listed below.

FOR FURTHER INFORMATION CONTACT:

Office of the Superintendent, Antietam National Battlefield, P.O. Box 158, Sharpsburg, Maryland 21782, Telephone: (301) 432-2243.

Office of the Superintendent, Monocacy National Battlefield, 4801 Urbana Pike, Frederick, Maryland 21704, Telephone: (301) 694-3147.

Office of the Superintendent, Manassas National Battlefield Park, 12521 Lee Highway, Manassas, Virginia 20109, Telephone: (703) 754-1861; and;

SUPPLEMENTARY INFORMATION: This plan is needed for the following reasons: Attainment of the parks' cultural landscape preservation goals and mandates are compromised by the high density of white-tailed deer in the parks.

Browsing of and other damage to native seedlings, saplings and understory vegetation by deer in the parks has prevented successful forest regeneration.

An increasing number of deer in the parks has resulted in adverse impacts to native vegetation and wildlife.

Opportunities to coordinate with other jurisdictional entities currently implementing deer management actions to benefit the protection of park resources and values can be expanded (Bull Run Regional Park and Conway Robinson State Park in Manassas, Virginia, etc.).

Chronic Wasting Diseases is proximate to the parks and represents an imminent threat to resources in the parks. There are opportunities to evaluate and plan responses to threats from Chronic Wasting Disease over the long term. The NPS has invited several other government agencies to participate in the development of the EIS and Plan as cooperating agencies, including the U.S. Fish and Wildlife Service, the State of Maryland and the Commonwealth of Virginia.

A scoping newsletter will be prepared that details the issues identified to date and includes the purpose, need, and objectives of the EIS and Plan. Copies of that information may be obtained online at http://parkplanning.nps.gov/battlefielddeerplan or at one of the three parks' headquarters addresses above.

If you wish to comment on the purpose, need, objectives, alternatives, or on any other issues associated with the EIS and Plan, you may submit your comments via the Internet at http://parkplanning.nps.gov/battlefielddeerplan or by mail or hand-delivery to one of the three parks' headquarters addresses above.

Before including your address, phone number, e-mail address, or other personal identifying information in your comment, you should be aware that your entire comment—including your personal identifying information—may be made publicly available at any time. While you can ask us in your comment to withhold your personal identifying information from public review, we cannot guarantee that we will be able to do so.

Dated: April 19, 2011.
Woody Smeck,
Acting Regional Director, National Capital Region.

[FR Doc. 2011-18150 Filed 7-18-11; 8:45 am]

BILLING CODE 4310-JK-P